DEPARTMENT OF JUSTICE

Motor Vehicles; Alternative Fuel Vehicle (AFV) Report

AGENCY: Justice Management Division.

ACTION: Notice of Availability—Fleet (AFV) Report.

SUMMARY: In accordance with the Energy Policy Act of 1992 (EPAct) (42 U.S.C. 13211-13219) as amended by the Energy Conservation Reauthorization Act of 1998 (Pub. L. 105-388), and Executive Order (EO) 13149, “Greening the Government Through Federal Fleet and Transportation Efficiency,” the Department of Justice's annual alternative fuel reports are available on the following Department of Justice Web site: http://www.usdoj.gov/jmd/publications/publications.htm

FOR FURTHER INFORMATION CONTACT: Janet C. Dobbs, (202) 514-6755.

Dated: May 30, 2002.
Robert F. Diegelman,
Acting Assistant Attorney General for Administration.

[FR Doc. 02-14399 Filed 6-7-02; 8:45 am]

BILLING CODE 4410-CW-M